DEPARTMENT OF HOMELAND SECURITY

U.S. Customs and Border Protection

[OMB Control Number 1651-0009]

Agency Information Collection Activities; Revision; Customs Declaration (CBP Form 6059B)

AGENCY: U.S. Customs and Border Protection (CBP), Department of Homeland Security.

ACTION: 60-Day notice and request for comments

SUMMARY: The Department of Homeland Security, U.S. Customs and Border Protection (CBP) will be submitting the following information collection request to the Office of Management and Budget (OMB) for review and approval in accordance with the Paperwork Reduction Act of 1995 (PRA). The information collection is published in the Federal Register to obtain comments from the public and affected agencies.

DATES: Comments are encouraged and must be submitted (no later than January 26, 2026) to be assured of consideration.

ADDRESSES: Written comments and/or suggestions regarding the item(s) contained in this notice must include the OMB Control Number 1651-0009 in the subject line and the agency name. Please submit written comments and/or suggestions in English. Please use the following method to submit comments:

Email. Submit comments to: CBP_PRA@cbp.dhs.gov.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This process is conducted in accordance with 5 CFR 1320.8. Written comments and suggestions from the public and affected agencies should address one or more of the following four points: (1) whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Customs Declaration.

OMB Number: 1651-0009.

Form Number: 6059B.

Current Actions: Revision.

Type of Review: Revision.

Affected Public: Individuals.

Abstract: CBP Form 6059B, Customs Declaration, is used as a standard report of the identity and residence of each person arriving in the United States. This form is also used to declare imported articles to U.S. Customs and Border Protection (CBP) in accordance with 19 CFR 122.27, 148.12, 148.13, 148.110, 148.111; 31 U.S.C. 5316 and Section 498 of the Tariff Act of 1930, as amended (19 U.S.C. 1498).

Section 148.13 of the CBP regulations prescribes the use of the CBP Form 6059B when a written declaration is required of a traveler entering the United States. Oral declarations are permissible under conditions as provided by 19 CFR 148.12 (e.g., items below a certain value). However, CBP may require a written declaration at any time. If an oral declaration is not accepted under 19 CFR 148.12, a written declaration is required using CBP form 6059B pursuant to 19 CFR 148.13.

CBP continues to find ways to improve the entry process through the use of mobile technology to ensure it is safe and efficient. To that end, CBP has deployed a process which allows travelers to use a mobile app to submit information to CBP prior to arrival in domestic locations and prior to departure at preclearance locations. This process, called Mobile Passport Control (MPC), allows travelers to use a designated lane upon arrival into the United States or departing a preclearance location. The MPC process also helps determine under what circumstances CBP should require a written customs declaration (CBP Form 6059B) and when it is beneficial to admit travelers who make an oral customs declaration during the primary inspection. MPC eliminates the administrative tasks performed by the officer during a traditional inspection and in most cases will eliminate the need for respondents/travelers to fill out a paper declaration. MPC provides a more efficient and secure in person inspection between the CBP Officer and the traveler.

MPC provides an electronic method for travelers to answer the questions that appear on form 6059B without filling out a paper form.

A sample of CBP Form 6059B can be found at: https://www.cbp.gov/sites/default/files/2024-07/cbp_form_6059b_english_0.pdf.

This collection is available in the following languages: English, French, Vietnamese, German, Italian, Japanese, Korean, Polish, Portuguese, Russian, Chinese, Hebrew, Spanish, Dutch, Arabic, Farsi, and Punjabi.

Previously approved revisions: Due to the termination of the APC program, U.S. Legal permanent residents (LPR) and visa waiver country (VWP) visitors arriving for their second visit to the United States will be included into the MPC program. U.S. LPRs are eligible for Simplified Arrival's (SA) photo biometric confirmation upon arrival into the United States. Other classes of admission eligible for SA's photo biometric confirmation will be considered for MPC inclusion as a future update.

CBP added a new mobile application, testing the operational effectiveness of allowing travelers to use the CBP Home mobile application to submit information to CBP, in advance, prior to arrival. This second mobile capability is under the current CBP Link™ application, a platform that serves as a portal for travelers and stakeholders to virtually interact with CBP. The CBP Link™ application will also allow travelers to self-segment upon arrival at land borders in the United States.

Similar to the MPC application, the CBP Link™ application eliminates the administrative tasks performed by the officer during a traditional inspection and in most cases will eliminate the need for respondents/travelers to fill out a paper declaration. In addition, the CBP Link™ application will also provide a more efficient and secure in person inspection between the CBP Officer and the traveler at the land border.

Unique to the CBP Link™ application is that while the MPC submission is completed upon arrival, the CBP Link™ application must be submitted in advance and will require the additional data elements:

1. Traveler Identify the Port of Entry (POE).

2. Time and/or date of arrival.

In addition, travelers will provide their answers to CBP's questions, take a self-picture/selfie and submit the information via the CBP Link™ application, after the plane lands. This will allow for advance vetting and proper resource management at the POE. This capability through the CBP Link™ application is available to all travelers arriving with authorized travel documents, including foreign nationals.

New Changes

1. MPC Expansion: CBP is now expanding the MPC program to visa-exempt non-immigrants and non-immigrant visa-bearing travelers.

As CBP expands Mobile Passport Control (MPC) to land ports of entry, new elements are being incorporated. Travelers arriving by personal vehicle will self-submit their vehicle's license plate number via the MPC application. This enables CBP to associate travelers with their conveyance, improving pre-arrival processing, situational awareness, and inspection efficiency at primary.

To determine the correct Port of Entry (POE) for submission, MPC uses the device's location services to calculate proximity. A single latitude/longitude coordinate—determined by the device's hardware—is collected locally and immediately discarded after a distance calculation is performed on the device. CBP does not receive or retain specific device location data; only the closest POE is selected for submission.

At primary inspection, CBP Officers use Simplified Arrival to process MPC travelers. Travelers group together by their MPC application will be linked in SA via their license plate number. When a license plate is read on primary, a function that SA already has, any MPC application associated to that plate number, within the time frame submitted by the traveler, will populate in SA. SA displays all relevant traveler data—including biographic, passport, and customs declaration information—alongside any enforcement flags. This integrated process provides a secure, efficient experience for both officers and travelers.

In the commercial bus environment, both individual travelers and carriers will be able to submit traveler information via the MPC application. Carriers will create an MPC shell that will be available to travelers to input their information into; carriers would input information of travelers who did not submit into the shell themselves. Travelers will be linked to the arriving conveyance using the bus's license plate number, allowing CBP to connect submissions to group manifests. This enhances processing for high-volume passenger arrivals and ensures accurate vetting.

For travelers arriving in the pedestrian environment, no additional data elements are required beyond those already collected in the air and sea environments. The process remains fundamentally the same, with MPC submissions including biometric and biographic data for Simplified Arrival (SA) processing. Travelers benefit from the same streamlined, paperless experience, and CBP benefits from continuity across all travel modes.

MPC will also be integrating I94 application and payments, in stages. Initially MPC will provide a link and a prompt to the public I94 website where MPC participants can apply and pay for their I94, if their information provided to MPC indicates they need a I94. Once communication is established between MPC and the public I94 website, biographical information (name, DOB, passport number, ext.) already provided to MPC by the traveler will be prepopulated into the I94 website for fast and more consistent applications. Eventually applicants will be able to both apply for and pay for their I94 without leaving the MPC app.

Type of Information Collection: Form 6059B.

Estimated Number of Respondents: 5,421,252.

Estimated Number of Annual Responses per Respondent: 1.

Estimated Number of Total Annual Responses: 5,421,252.

Estimated Time per Response: 4 minutes.

Estimated Total Annual Burden Hours: 363,242.

Type of Information Collection: Verbal Declarations.

Estimated Number of Respondents: 420,525,380.

Estimated Number of Annual Responses per Respondent: 1.

Estimated Number of Total Annual Responses: 420,525,380.

Estimated Time per Response: 10 seconds.

Estimated Total Annual Burden Hours: 1,261,576.

Type of Information Collection: MPC App.

Estimated Number of Respondents: 42,594,663.

Estimated Number of Annual Responses per Respondent: 1.

Estimated Number of Total Annual Responses: 42,594,663.

Estimated Time per Response: 2 minutes.

Estimated Total Annual Burden Hours: 1,405,623.

Type of Information Collection: CBP Link App.

Estimated Number of Respondents: 500,000.

Estimated Number of Annual Responses per Respondent: 1.

Estimated Number of Total Annual Responses: 500,000.

Estimated Time per Response: 2 minutes.

Estimated Total Annual Burden Hours: 16,500.

Seth D. Renkema,
Branch Chief, Economic Impact Analysis Branch, U.S. Customs and Border Protection.

[FR Doc. 2025-21133 Filed 11-25-25; 8:45 am]

BILLING CODE 9111-14-P